DEPARTMENT OF ENERGY

Federal Energy Regulatory Commission

Combined Notice of Filings #1

December 14, 2010.

Take notice that the Commission received the following electric corporate filings:

Docket Numbers: EC11-30-000.

Applicants: COLMAC Energy Inc.

Description: Application of COLMAC Energy, Inc. under FPA Section 203.

Filed Date: 12/13/2010.

Accession Number: 20101213-5250.

Comment Date: 5 p.m. Eastern Time on Monday, December 27, 2010.

Take notice that the Commission received the following electric rate filings:

Docket Numbers: ER03-40-000.

Applicants: Accent Energy Midwest LLC.

Description: Accent Energy Midwest LLC submits a Notice of Cancellation of its Original Sheet No 1-2, First Revised FERC Electric Rate Tariff, Original Volume No 1.

Filed Date: 12/13/2010.

Accession Number: 20101214-0201.

Comment Date: 5 p.m. Eastern Time on Monday, January 3, 2011.

Docket Numbers: ER10-2490-001; ER10-2491-001.

Applicants: The Dayton Power and Light Company; The DPL Energy, LLC.

Description: Submission of 2010 Market Power Analysis of The Dayton Power and Light Company and DPL Energy, LLC.

Filed Date: 12/14/2010.

Accession Number: 20101214-5043.

Comment Date: 5 p.m. Eastern Time on Tuesday, January 4, 2011.

Docket Numbers: ER10-2786-004.

Applicants: Washington Gas Energy Services, Inc.

Description: Washington Gas Energy Services, Inc. submits tariff filing per 35: Washington Gas Energy Services Tariff to be effective 12/12/2010.

Filed Date: 12/13/2010.

Accession Number: 20101213-5001.

Comment Date: 5 p.m. Eastern Time on Monday, January 3, 2011.

Docket Numbers: ER10-2994-001.

Applicants: Iberdrola Renewables, Inc.

Description: Iberdrola Renewables, Inc. submits tariff filing per 35: Compliance Filing to Baseline MBR Tariff to be effective 9/27/2010.

Filed Date: 12/14/2010.

Accession Number: 20101214-5103.

Comment Date: 5 p.m. Eastern Time on Tuesday, January 4, 2011.

Docket Numbers: ER10-2995-001.

Applicants: Juniper Canyon Wind Power LLC.

Description: Juniper Canyon Wind Power LLC submits tariff filing per 35: Compliance Filing to Baseline MBR Tariff to be effective 9/27/2010.

Filed Date: 12/14/2010.

Accession Number: 20101214-5104.

Comment Date: 5 p.m. Eastern Time on Tuesday, January 4, 2011.

Docket Numbers: ER10-3001-001.

Applicants: Lempster Wind, LLC.

Description: Lempster Wind, LLC submits tariff filing per 35: Compliance Filing to Baseline MBR to be effective 9/27/2010.

Filed Date: 12/14/2010.

Accession Number: 20101214-5105.

Comment Date: 5 p.m. Eastern Time on Tuesday, January 4, 2011.

Docket Numbers: ER10-3004-001.

Applicants: Locust Ridge Wind Farm II, LLC.

Description: Locust Ridge Wind Farm II, LLC submits tariff filing per 35: Compliance Filing to Baseline MBR to be effective 9/27/2010.

Filed Date: 12/14/2010.

Accession Number: 20101214-5106.

Comment Date: 5 p.m. Eastern Time on Tuesday, January 4, 2011.

Docket Numbers: ER10-3005-001.

Applicants: MinnDakota Wind LLC.

Description: MinnDakota Wind LLC submits tariff filing per 35: Compliance Filing to MBR Tariff to be effective 9/27/2010.

Filed Date: 12/14/2010.

Accession Number: 20101214-5118.

Comment Date: 5 p.m. Eastern Time on Tuesday, January 4, 2011.

Docket Numbers: ER10-3007-001.

Applicants: Moraine Wind II LLC.

Description: Moraine Wind II LLC submits tariff filing per 35: Compliance Filing to Baseline MBR Tariff to be effective 9/27/2010.

Filed Date: 12/14/2010.

Accession Number: 20101214-5119.

Comment Date: 5 p.m. Eastern Time on Tuesday, January 4, 2011.

Docket Numbers: ER10-3008-001.

Applicants: Northern Iowa Windpower II LLC.

Description: Northern Iowa Windpower II LLC submits tariff filing per 35: Compliance Filing to Baseline MBR Tariff to be effective 9/27/2010.

Filed Date: 12/14/2010.

Accession Number: 20101214-5138.

Comment Date: 5 p.m. Eastern Time on Tuesday, January 4, 2011.

Docket Numbers: ER10-3009-001.

Applicants: Pebble Springs Wind LLC.

Description: Pebble Springs Wind LLC submits tariff filing per 35: Compliance Filing to Baseline MBR Tariff to be effective 9/27/2010.

Filed Date: 12/14/2010.

Accession Number: 20101214-5139.

Comment Date: 5 p.m. Eastern Time on Tuesday, January 4, 2011.

Docket Numbers: ER10-3011-001.

Applicants: Rugby Wind LLC.

Description: Rugby Wind LLC submits tariff filing per 35: Compliance Filing to Baseline MBR Tariff to be effective 9/27/2010.

Filed Date: 12/14/2010.

Accession Number: 20101214-5150.

Comment Date: 5 p.m. Eastern Time on Tuesday, January 4, 2011.

Docket Numbers: ER11-2358-000.

Applicants: Westar Energy, Inc.

Description: Westar Energy, Inc. submits tariff filing per 35.13(a)(2)(iii: Mid-Kansas Electric Company, LLC to be effective 8/31/2010.

Filed Date: 12/14/2010.

Accession Number: 20101214-5009.

Comment Date: 5 p.m. Eastern Time on Tuesday, January 4, 2011.

Docket Numbers: ER11-2359-000.

Applicants: Midwest Independent Transmission System Operator, Inc.

Description: Midwest Independent Transmission System Operator, Inc. submits tariff filing per 35.13(a)(2)(iii: CapX-Bemidji-Otter Tail to be effective 12/15/2010.

Filed Date: 12/14/2010.

Accession Number: 20101214-5044.

Comment Date: 5 p.m. Eastern Time on Tuesday, January 4, 2011.

Docket Numbers: ER11-2360-000.

Applicants: Midwest Independent Transmission System Operator, Inc.

Description: Midwest Independent Transmission System Operator, Inc. submits tariff filing per 35.13(a)(2)(iii: CapX-Bemdiji Minnkota Power to be effective 12/15/2010.

Filed Date: 12/14/2010.

Accession Number: 20101214-5045.

Comment Date: 5 p.m. Eastern Time on Tuesday, January 4, 2011.

Docket Numbers: ER11-2361-000.

Applicants: Midwest Independent Transmission System Operator, Inc.

Description: Midwest Independent Transmission System Operator, Inc. submits tariff filing per 35.13(a)(2)(iii: CapX-Bemidji-MN Power to be effective 12/15/2010.

Filed Date: 12/14/2010.

Accession Number: 20101214-5046.

Comment Date: 5 p.m. Eastern Time on Tuesday, January 4, 2011.

Docket Numbers: ER11-2362-000.

Applicants: PJM Interconnection, L.L.C.

Description: PJM Interconnection, L.L.C. submits tariff filing per 35.13(a)(2)(iii: WMPA No. 2705, Queue W1-121, EffiSolar Energy Corp. and PSE&G to be effective 11/15/2010.

Filed Date: 12/14/2010.

Accession Number: 20101214-5047.

Comment Date: 5 p.m. Eastern Time on Tuesday, January 4, 2011.

Docket Numbers: ER11-2363-000.

Applicants: Chestnut Flats Wind, LLC.

Description: Chestnut Flats Wind, LLC submits tariff filing per 35.13(a)(2)(iii: Market-Based Rate Tariff to be effective 12/14/2010.

Filed Date: 12/14/2010.

Accession Number: 20101214-5078.

Comment Date: 5 p.m. Eastern Time on Tuesday, January 4, 2011.

Docket Numbers: ER11-2364-000.

Applicants: Sandy Ridge Wind, LLC.

Description: Sandy Ridge Wind, LLC submits tariff filing per 35.13(a)(2)(iii: Market-Based Rate Tariff to be effective 12/15/2010.

Filed Date: 12/14/2010.

Accession Number: 20101214-5093.

Comment Date: 5 p.m. Eastern Time on Tuesday, January 4, 2011.

Docket Numbers: ER11-2365-000.

Applicants: Paradise Solar Urban Renewal, L.L.C.

Description: Paradise Solar Urban Renewal, L.L.C. submits tariff filing per 35.12: Paradise Solar Urban Renewal, L.L.C. to be effective 12/15/2010.

Filed Date: 12/14/2010.

Accession Number: 20101214-5101.

Comment Date: 5 p.m. Eastern Time on Tuesday, January 4, 2011.

Take notice that the Commission received the following electric securities filings:

Docket Numbers: ES11-8-000.

Applicants: PJM Interconnection, L.L.C., PJM Settlement, Inc.

Description: Response to December 8, 2010 Request for Additional Information.

Filed Date: 12/13/2010.

Accession Number: 20101213-5234.

Comment Date: 5 p.m. Eastern Time on Friday, December 17, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please email FERCOnlineSupport@ferc.gov. or call (866) 208-3676 (toll free). For TTY, call (202) 502-8659.

Kimberly D. Bose,
Secretary.

[FR Doc. 2011-528 Filed 1-12-11; 8:45 am]

BILLING CODE 6717-01-P